DEPARTMENT OF THE TREASURY

Internal Revenue Service

26 CFR Part 1

[TD 9422]

RIN 1545-BE95

S Corporation Guidance Under AJCA of 2004 and GOZA of 2005; Correction

AGENCY: Internal Revenue Service (IRS), Treasury.

ACTION: Correction to final regulations.

SUMMARY: This document contains a correction to final regulations (TD 9422) that were published in the Federal Register on Thursday, August 14, 2008 (73 FR 47526) providing guidance regarding certain changes made to the rules governing S corporations under the American Jobs Creation Act of 2004 and the Gulf Opportunity Zone Act of 2005. The final regulations replace obsolete references in the current regulations and allow taxpayers to make proper use of the provisions that made changes to prior law. The final regulations include guidance on the S corporation family shareholder rules, the definitions of “powers of appointment” and “potential current beneficiaries” (PCBs) with regard to electing small business trusts (ESBTs), the allowance of suspended losses to the spouse or former spouse of an S corporation shareholder, and relief for inadvertently terminated or invalid qualified subchapter S subsidiary (QSub) elections. The final regulations affect S corporations and their shareholders.

DATES: The correction is effective September 24, 2008, and is applicable on August 14, 2008.

FOR FURTHER INFORMATION CONTACT: Charles J. Langley, Jr., (202) 622-3060, (not a toll-free number).

SUPPLEMENTARY INFORMATION:

Background

The final regulations (TD 9422) that are the subject of this correction are under sections 1361, 1362, and 1366 of the Internal Revenue Code.

Need for Correction

As published, the final regulations (TD 9422) contain an error that may prove to be misleading and is in need of clarification.

Correction of Publication

Accordingly, the publication of the final regulations (TD 9422), which was the subject of FR Doc. E8-18782, is corrected as follows:

On page 47527, column 3, in the preamble, under the paragraph heading “Drafting Information”, line 2, the language “proposed regulations is Charles J.” is corrected to read “regulations is Charles J.”.

LaNita Van Dyke,
Chief, Publications and Regulations Branch, Legal Processing Division, Associate Chief Counsel (Procedure and Administration).

[FR Doc. E8-22381 Filed 9-23-08; 8:45 am]

BILLING CODE 4830-01-P